DEPARTMENT OF COMMERCE

National Oceanic and Atmospheric Administration

RIN 0648-XZ21

Notice of Availability of a Draft Programmatic Environmental Impact Statement for Hawaiian Monk Seal Recovery Actions

AGENCY: National Marine Fisheries Service (NMFS), National Oceanic and Atmospheric Administration (NOAA), Commerce.

ACTION: Notice of Availability of a Draft Programmatic Environmental Impact Statement; request for comments.

SUMMARY: NMFS announces the availability of the “Draft Programmatic Environmental Impact Statement (PEIS) for Hawaiian monk seal Recovery Actions.” Publication of this notice begins the official public comment period for the Draft PEIS. The purpose of the Draft PEIS is to evaluate, in compliance with the National Environmental Policy Act (NEPA), the potential direct, indirect, and cumulative impacts of implementing the alternative approaches for funding, undertaking, and permitting the management, research and enhancement activities on Hawaiian monk seals, as well as other components of the marine ecosystem and human environment.

DATES: See SUPPLEMENTARY INFORMATION.

ADDRESSES: Written comments on the Draft PEIS must be postmarked by October 17, 2011. Comments on the Draft PEIS for this action may be submitted by:

• E-mail: monkseal@noaa.gov.

• Mail: 1601 Kapiolani Blvd., Suite 1110, Honolulu, HI 96814.

• Public Hearings: Oral and written comments will be accepted during the upcoming public hearings. See SUPPLEMENTARY INFORMATION, PUBLIC HEARINGS (below) for dates and locations of public hearings for this issue.

The draft PEIS is available on the following Web site: http://www.nmfs.noaa.gov/pr/permits/eis/hawaiianmonkseal.htm. To be included on a mailing list and receive newsletters and copies of the Draft and Final PEIS, please e-mail monkseal@noaa.gov or send your mailing or email address to the Marine Mammal Branch Chief, Protected Resources Division, NOAA NMFS Pacific Islands Regional Office, 1601 Kapiolani Blvd., Suite 1110, Honolulu, HI 96814.

FOR FURTHER INFORMATION CONTACT: Jeff Walters (phone: 808-944-2200); or via the following email address: monkseal@noaa.gov.

SUPPLEMENTARY INFORMATION: NMFS is the Federal agency responsible for management and recovery of Hawaiian monk seals under the Endangered Species Act (ESA; 16 U.S.C. 1531 et seq.) and the Marine Mammal Protection Act (MMPA; 16 U.S.C. 1361 et seq.). In 1976, NMFS listed Hawaiian monk seals as “endangered” under the ESA and “depleted” under the MMPA. As required under section 4 of the ESA, NMFS published a Recovery Plan for the species in 1983, which was revised in 2007.

NMFS administers funds that have been appropriated by Congress and allocated within NMFS' annual budget for the purpose of carrying out recovery actions for Hawaiian monk seals. This PEIS would satisfy the NEPA compliance requirements for funding and undertaking recovery actions for Hawaiian monk seals, including the requirements for obtaining MMPA and ESA permits.

Background

The Hawaiian monk seal (Monachus schauinslandi) is a critically endangered species found only in the U.S., within the Hawaiian Archipelago and at Johnston Atoll. The population is estimated to have 1,125 individuals remaining and is declining by roughly 4.5% each year.

Since the 1980's, NMFS has conducted research to understand, and enhancement activities to mitigate, threats to the survival of monk seals. Most of this work has been in the Northwestern Hawaiian Islands (NWHI) where the majority of seals live and breed. More recently, a natural increase in the number of seals in the Main Hawaiian Islands (MHI) has prompted researchers and managers to begin studying and aiding seals in the MHI.

Despite measures taken to save the monk seal, the species is not showing signs of recovery. In the NWHI, young seals are continuing to starve to death, nursing and newly weaned pups are being killed by sharks, seals are getting entangled in marine debris, and sea level rise threatens terrestrial habitats. Low juvenile survival over the past two decades is the primary cause of the population's decline. There is insufficient recruitment into the breeding population, and the population decline will likely continue without intervention.

On October 1, 2010, NMFS provided public notice (75 FR 60721) that it would prepare a PEIS to assess the impacts of implementing specific management actions and administering a research and enhancement program to improve survival of Hawaiian monk seals. The 45 day public scoping period was extended 15 days (75 FR 69398), and the comment period ended November 30, 2010.

Scoping was the first step in this NEPA process (as required under 40 CFR 1501.7). Scoping provided an opportunity for the public and agencies to express their views and identify issues to be addressed in the Draft PEIS regarding activities that may be performed on Hawaiian monk seals in an effort to recover the species.

As part of scoping, NMFS hosted public meetings to introduce the project proposal, describe the PEIS process, and solicit input on the issues and alternatives to be evaluated. Public scoping meetings were held in October 2010 on the islands of O`ahu, Hawai'i, Maui, Moloka'i, and Kaua`i. During the scoping comment period, 139 public comments were received. A report summarizing these comments is available on the project Web site: http://www.nmfs.noaa.gov/pr/permits/eis/hawaiianmonkseal.htm.

Issues identified by the public during the scoping process include, but are not limited to, concerns regarding bringing young seals to the MHI and returning them to the NWHI, Native Hawaiian beliefs and culture, fisheries interactions, and human-seal encounters. Substantive comments received during the scoping period have been addressed in the Draft PEIS.

Alternatives

NMFS has evaluated a preferred alternative and three other alternatives in the Draft PEIS. These are summarized as follows:

Alternative 1: Status Quo Alternative: Under the Status Quo Alternative, research and enhancement activities would be carried out as currently permitted under the MMPA and ESA. New permits could be issued in the future to maintain the current levels of research and enhancement activities. Some elements of this alternative include:

• Population assessment (e.g., counting, marking for identification);

• Health and disease studies (e.g., tissue sampling, taking measurements);

• Foraging studies (e.g., telemetry, scat collection);

• De-worming research (e.g., fecal samples, testing anti-parasite treatments);

• Translocation of weaned pups within the NWHI to improve juvenile survival;

• Mitigation of fishery interactions (e.g., disentanglement, removal of hooks); and

• Mitigation of adult male aggression (e.g., removal of aggressive males).

Alternative 2: No Action: Under this alternative, the above-mentioned permitted research and enhancement activities on Hawaiian monk seals would stop in 2014 when the current MMPA-ESA permit expires. No new permits would be issued.

Alternative 3: Limited Translocation: Alternative 3 would include all currently permitted activities and further address the recommendations of the Hawaiian Monk Seal Recovery Plan by including new research and enhancement activities. New activities would include, but would not be limited to:

• Expanding the scope and number of seal translocations, including (1) moving seals with unmanageable human interactions from the MHI to NWHI, (2) taking seals age three years and older from the MHI to NWHI to examine their subsequent survival, and (3) using a two-stage translocation program whereby weaned pups are taken from areas of lower survival to areas of higher survival. This would include the option of returning the seals to their birth island or nearby site at age three years and older, but would exclude moving seals from the NWHI to the MHI.

• Research and development of tools for modifying undesirable seal behavior related to interactions with humans and fishing gear in the MHI.

• Potential implementation of de-worming as a tool to improve juvenile survival.

• Supplementing monk seal diet using feeding stations in NWHI locations where seals are released after being cared for in captivity.

• Vaccination studies and potential use of vaccines to mitigate infectious diseases (West Nile Virus and Morbilliviruses).

• Chemical alteration of aggressive male monk seal behavior using a testosterone suppressant.

• Expanded surveys and use of new tools (such as remote cameras and unmanned remotely operated aircraft).

A distinctive feature of Alternative 3 is that translocations of young animals from the NWHI to the MHI would not be permitted.

Alternative 4: Enhanced Implementation (Preferred Alternative): Alternative 4, the enhanced implementation alternative, is the Preferred Alternative. This alternative would encompass all the activities under Alternative 3, with the additional option to temporarily translocate weaned pups from the NWHI to the MHI to improve survival. At age three years, surviving translocated seals would be returned to the NWHI.

Alternative 4 encompasses the range of actions considered most promising to prevent the extinction of the species. Before any translocation between the NWHI and MHI would be attempted, extensive outreach and engagement with local stakeholders would be conducted, and programs to reduce seal-human interactions, including interactions between seals and fishing gear, would be developed and implemented.

Public Involvement

Comments will be accepted at public hearings (see below) and during the public comment period, and must be submitted to NMFS by October 17, 2011 (see FOR FURTHER INFORMATION CONTACT). We request that you include in your comments: (1) Your name, address, and affiliation (if any); and (2) background documents to support your comments as appropriate.

Public hearings will take place on the following dates, times, and locations:

1. Monday, September 12, 2011, 5:30 p.m.-8:30 p.m., Central Union Church, 1660 South Beretania Street, Honolulu, O`ahu.

2. Tuesday, September 13, 2011, 6 p.m.-8:30 p.m., Hale Mahaolu Home Pumehana, 290 Kolapa Place, Kaunakakai, Moloka'i.

3. Wednesday, September 14, 2011, 6 p.m.-9 p.m., Mokupāpapa Discovery Center, 308 Kamehameha Avenue, Suite 109, Hilo, Hawai'i.

4. Thursday, September 15, 2011, 6 p.m.-9 p.m., Kīhei Community Center, 303 East Lipoa Street, Kīhei, Maui.

5. Saturday, September 17, 2011, 9 a.m.-12 p.m. and 4 p.m.-7 p.m., Wilcox Elementary School, 4319 Hardy Street, Līhu`e, Kaua`i.

Special Accommodations

These meetings are accessible to people with disabilities. Requests for sign language interpretation or other auxiliary aids should be directed to Rachel Sprague, (808) 944-2200 (phone) or (808) 973-2941 (fax), at least 5 days before the scheduled meeting date.

Authority: 16 U.S.C. 1361 et seq. and 16 U.S.C. 1531 et seq.

Dated: August 11, 2011.
Samuel D. Rauch III,
Deputy Assistant Administrator for Regulatory Programs, National Marine Fisheries Service.

[FR Doc. 2011-21274 Filed 8-18-11; 8:45 am]

BILLING CODE 3510-22-P